DEPARTMENT OF TRANSPORTATION

Pipeline and Hazardous Materials Safety Admnistration

Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” denote a modification request. There applications have been separated from the new application for special permits to facilitate processing.

DATES: Comments must be received on or before December 9, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for modification of special permit is published in accordance with Part 107 of the Federal hazardous materials transportation law (49 U.S.C. 5117(b); 49 CFR 1.53(b)).

Issued in Washington, DC, on November 13, 2008.
Delmer F. Billings,
Director, Office of Hazardous Materials Special Permits and Approvals.

Modification Special Permits
Application No./ Docket No. | Applicant | Regulation(s) affected | Nature of special permit thereof
12516-M | Poly-Coat Systems, Inc. Houston, TX | 49 CFR 107.503(b)(c); 172.1 02(c)(3) B15 and B23; 173.241; 173.242; 178.345-1; -2; -3; -4; -7; -14; -15; 178.347-1; -2; 178.348-1; 178.348-2; 180.405; 180.4 13(d) | To modify the special permit that authorizes the manufacture, mark, sale and use of non-DOT specification cargo tanks constructed of fiberglass reinforced plastic by increasing the volumetric capacity.
14702-M | CRI/Criterion, Inc. and its affiliate businesses Houston, TX | 49 CFR 178.8 12(a) and 178.801(1) | To reissue the special permit originally issued on an emergency basis for the transportation in commerce of approximately 2,500 UN1IHG2W, UN11HH2 and UN11HH2W certified intermediate bulk containers that do not meet all the requirements of the competent authority approval that authorized their manufacture.

[FR Doc. E8-27594 Filed 11-21-08; 8:45 am]

BILLING CODE 4909-60-M